DEPARTMENT OF TRANSPORTATION

Federal Aviation Administration

14 CFR Part 39

[Docket No. FAA-2006-24290; Directorate Identifier 2005-NM-243-AD]

RIN 2120-AA64

Airworthiness Directives; Bombardier Model DHC-8-100, DHC-8-200, and DHC-8-300 Series Airplanes

AGENCY: Federal Aviation Administration (FAA), Department of Transportation (DOT).

ACTION: Notice of proposed rulemaking (NPRM).

SUMMARY: The FAA proposes to adopt a new airworthiness directive (AD) for certain Bombardier Model DHC-8-100, DHC-8-200, and DHC-8-300 series airplanes. This proposed AD would require repetitive inspections of the fluorescent light tube assemblies of the cabin, lavatory, and sidewall, and corrective actions if necessary. This proposed AD would also provide for optional terminating action for the repetitive inspections. This proposed AD results from reports of overheating due to arcing between the fluorescent tube pins and the lamp holder contacts. The tubes had not been properly seated during installation. We are proposing this AD to prevent fumes, traces of visible smoke, and fire at the fluorescent light tube assembly.

DATES: We must receive comments on this proposed AD by May 4, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, room PL-401, Washington, DC 20590.

• Fax: (202) 493-2251.

• Hand Delivery: Room PL-401 on the plaza level of the Nassif Building, 400 Seventh Street SW., Washington, DC, between 9 a.m. and 5 p.m., Monday through Friday, except Federal holidays.

Contact Bombardier, Inc., Bombardier Regional Aircraft Division, 123 Garratt Boulevard, Downsview, Ontario M3K 1Y5, Canada, for service information identified in this proposed AD.

FOR FURTHER INFORMATION CONTACT: Douglas Wagner, Aerospace Engineer, Systems and Flight Test Branch, ANE-172, FAA, New York Aircraft Certification Office, 1600 Stewart Avenue, suite 410, Westbury, New York 11590; telephone (516) 228-7306; fax (516) 794-5531.

SUPPLEMENTARY INFORMATION:

Comments Invited

We invite you to submit any relevant written data, views, or arguments regarding this proposed AD. Send your comments to an address listed in the ADDRESSES section. Include the docket number “FAA-2006-24290; Directorate Identifier 2005-NM-243-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

Transport Canada Civil Aviation (TCCA), which is the airworthiness authority for Canada, advised us that an unsafe condition may exist on certain Bombardier Model DHC-8-100, DHC-8-200, and DHC-8-300 series airplanes. TCCA advises that numerous service difficulty reports have indicated damage to fluorescent lamp holders in the cabin, lavatory, and sidewall due to overheating. The overheating can result from arcing between the fluorescent tube pins and the lamp holder contacts if the tube is not properly seated during installation. This condition, if not corrected, could result in fumes, traces of visible smoke, and fire at the fluorescent light tube assembly.

Relevant Service Information

The manufacturer has revised certain procedures for inspecting certain fluorescent tube assemblies. These procedures for detailed visual inspections are described in the temporary revisions (TRs) to the de Havilland DASH-8 Maintenance Program Manual, as identified in the following table.

de Havilland Maintenance Program Manual TRs
Area | DHC-8 series | Task No. | TR | Date | PSM No.
Cabin | 100 | 3320/01 | MRB-146 | August 31, 2004 | 1-8-7
| 200 | 3320/01 | MRB 2-24 | August 31, 2004 | 1-82-7
| 300 | 3320/01 | MRB 3-155 | August 31, 2004 | 1-83-7
Lavatory | 100 | 3320/03 | MRB-147 | May 3, 2005 | 1-8-7
| 200 | 3320/03 | MRB 2-25 | May 3, 2005 | 1-82-7
| 300 | 3320/03 | MRB 3-156 | May 3, 2005 | 1-83-7
Sidewall | 100 | 3320/02 | MRB-147 | May 3, 2005 | 1-8-7
| 200 | 3320/02 | MRB 2-25 | May 3, 2005 | 1-82-7
| 300 | 3320/02 | MRB 3-156 | May 3, 2005 | 1-83-7

Bombardier has issued Service Bulletins 8-33-52, dated April, 15, 2005, and 8-33-51, Revision ‘A,’ dated April 20, 2005. The service bulletins describe procedures for replacing certain ballasts with new “Arc Protection” ballasts.

Accomplishing the actions specified in the service information is intended to adequately address the unsafe condition. TCCA mandated the inspections specified in the TRs, and prohibited future replacement of an existing ballast except in accordance with the service bulletins. TCCA issued Canadian airworthiness directive CF-2004-26R1, dated September 28, 2005, to ensure the continued airworthiness of these airplanes in Canada.

FAA's Determination and Requirements of the Proposed AD

These airplane models are manufactured in Canada and are type certificated for operation in the United States under the provisions of section 21.29 of the Federal Aviation Regulations (14 CFR 21.29) and the applicable bilateral airworthiness agreement. Pursuant to this bilateral airworthiness agreement, TCCA has kept the FAA informed of the situation described above. We have examined TCCA's findings, evaluated all pertinent information, and determined that we need to issue an AD for airplanes of this type design that are certificated for operation in the United States.

Therefore, we are proposing this AD, which would require repetitive inspections to detect signs of arcing in the fluorescent light tube assemblies of the cabin, lavatory, and sidewall, and corrective actions if necessary. This proposed AD would also provide for optional terminating action for the repetitive inspections.

Differences Between Service Information/Canadian Airworthiness Directive

The following differences apply to this proposed AD:

1. The Canadian airworthiness directive does not specify intervals for repeating the inspections. Instead, it requires incorporating the TRs previously identified into the applicable Maintenance Review Board (MRB) document, which contains the repetitive intervals for the inspections. TCCA requires operators in Canada to use the information—including the repetitive intervals—in the latest revision of the MRB. However, since the MRB is not mandatory in the U.S., this proposed AD would require that operators repeat the inspections.

2. The Canadian airworthiness directive requires the initial inspection at the earlier of the next C-check or within 36 months. But maintenance schedules vary among operators, so a compliance time specified as the next C-check would not ensure that the airplane would be inspected in a timely manner. We have been advised that the average C-check interval is 5,000 flight hours; therefore, this proposed AD would require the initial inspection within the earlier of 36 months or 5,000 flight hours.

3. This proposed AD would allow the repetitive inspections to be terminated if all ballasts installed on the airplane are “Arc Protection” ballasts. Although this provision is not specifically stated in the Canadian airworthiness directive, TCCA's intent was to consider total ballast replacement as terminating action for the repetitive inspections.

4. The service bulletins do not provide for corrective action for signs of arcing. This proposed AD would require repairing those conditions before further flight using a method approved by the FAA or TCCA (or its delegated agent). In light of the type of repair that would be required to address the unsafe condition, and consistent with existing bilateral airworthiness agreements, we have determined that a repair approved by the FAA or TCCA would be acceptable for compliance with this proposed AD. Chapter 33-20-00, Section D, of the Airplane Maintenance Manual is one approved method.

5. The TRs specify “detailed visual inspections” of the fluorescent light tube assemblies of the cabin, lavatory, and sidewall. We have determined that the procedures in the TRs should be described as a “detailed inspections.” Note 1 in this proposed AD defines this type of inspection.

These differences have been coordinated with TCCA.

Costs of Compliance

The following table provides the estimated costs for U.S. operators to comply with this proposed AD. This proposed AD would affect about 121 U.S.-registered airplanes.

Estimated Costs, per Inspection Cycle
Action | Work hours | Average labor rate per hour | Parts | Cost per airplane
Inspection, per inspection cycle | 6 maximum | $80 | None | Up to $480.
Ballast replacement (optional) | 2, per ballast ¹ | 80 | $486, per ballast | Up to $41,990.

¹ Number of Ballasts per Airplane
Area | Airplane model | Number of ballasts
Lavatory | DHC-8-100 and -200 | 1
| DHC-8-300 | 1
Sidewall | DHC-8-100 and -200 | 19
| DHC-8-300 | 30
Cabin | DHC-8-100 and -200 | 21
| DHC-8-300 | 33

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Bombardier, Inc. (Formerly de Havilland, Inc.): Docket No. FAA-2006-24290; Directorate Identifier 2005-NM-243-AD.

Comments Due Date

(a) The FAA must receive comments on this AD action by May 4, 2006.

Affected ADs

(b) None.

Applicability

(c) This AD applies to Bombardier Model DHC-8-102, -103, -106, -201, -202, -301, -311, and -315 airplanes; certificated in any category; serial numbers 003 through 407 inclusive, 409 through 412 inclusive, and 414 through 433 inclusive; excluding those with Hunting interiors.

Unsafe Condition

(d) This AD results from reports of overheating due to arcing between the fluorescent tube pins and the lamp holder contacts. The tubes had not been properly seated during installation. We are issuing this AD to prevent fumes, traces of visible smoke, and fire at the fluorescent light tube assembly.

Compliance

(e) You are responsible for having the actions required by this AD performed within the compliance times specified, unless the actions have already been done.

Inspection

(f) Within 5,000 flight hours or 36 months after the effective date of this AD, whichever occurs first: Perform detailed inspections to detect signs of arcing of the fluorescent tube assemblies of the cabin, sidewalls, and lavatory, in accordance with the applicable temporary revision (TR) of the maintenance program manual (MPM) identified in Table 1 of this AD. If any sign of arcing is found, repair before further flight using a method approved by either the Manager, International Branch, ANM-116, Transport Airplane Directorate, FAA; or Transport Canada Civil Aviation (or its delegated agent). Chapter 33-20-00, Section D, of the Airplane Maintenance Manual is one approved method. Repeat the inspection at intervals not to exceed 5,000 flight hours, until all Ballast part numbers BA08006-1 or BA08006-28-1 have been replaced in accordance with paragraph (g) of this AD.

Table 1.—TRs
Inspect the fluorescent tube assemblies of the— | In accordance with Task No.— | of de Havilland TR— | To the de Havilland DASH 8 series— | For model—
Cabin | 3320/01 | MRB 2-24, dated August 31, 2004 | 200 MPM PSM 1-82-7 | DHC-8-201 and -202 airplanes.
| 3320/01 | MRB 3-155, dated August 31, 2004 | 300 MPM PSM 1-83-7 | DHC-8-301, -311, -314, and -315 airplanes.
| 3320/01 | MRB-146, dated August 31, 2004 | 100 MPM PSM 1-8-7 | DHC-8-102, -103, -106 airplanes.
Lavatory | 3320/03 | MRB -147, dated May 3, 2005 | 100 MPM PSM 1-8-7 | DHC-8-102, -103, -106 airplanes.
| 3320/03 | MRB 2-25, dated May 3, 2005 | 200 MPM PSM 1-82-7 | DHC-8-201 and -202 airplanes.
| 3320/03 | MRB 3-156, dated May 3, 2005 | 300 MPM PSM 1-83-7 | DHC-8-301, -311, -314, and -315 airplanes.
Sidewall | 3320/02 | MRB 2-25, dated May 3, 2005 | 200 MPM PSM 1-82-7 | DHC-8-201 and -202 airplanes.
| 3320/02 | MRB 3-156, dated May 3, 2003 | 300 MPM PSM 1-83-7 | DHC-8-301, -311, -314, and -315 airplanes.
| 3320/02 | MRB -147, dated May 3, 2003 | 100 MPM PSM 1-8-7 | DHC-8-102, -103, -106 airplanes.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Terminating Action

(g) The repetitive inspections required by this AD may be terminated if all ballasts installed on the airplane have part number (P/N) BR9000-21, installed in accordance with the Accomplishment Instructions of Bombardier Service Bulletin 8-33-51, Revision ‘A,' dated April 20, 2005 (to replace ballast P/N BA08006-1), or 8-33-52, dated April 15, 2005 (to replace ballast P/N BA08006-28-1). Ballasts installed before the effective date of this AD are also acceptable if done in accordance with Bombardier Service Bulletin 8-33-51, dated August 16, 2002.

Parts Installation

(h) As of the effective date of this AD: No person may install a ballast P/N BA08006-1 or BA08006-28-1 on any airplane.

Alternative Methods of Compliance (AMOCs)

(i)(1) The Manager, New York Aircraft Certification Office, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(j) Canadian airworthiness directive CF-2004-26R1, dated September 28, 2005, also addresses the subject of this AD.

Issued in Renton, Washington, on March 24, 2006.
Ali Bahrami,
Manager, Transport Airplane Directorate, Aircraft Certification Service.

[FR Doc. E6-4841 Filed 4-3-06; 8:45 am]

BILLING CODE 4910-13-P